DEPARTMENT OF TRANSPORTATION

Federal Aviation Administration

14 CFR Part 39

[Docket No. FAA-2011-0645; Directorate Identifier 2010-NM-009-AD; Amendment 39-17052; AD 2012-10-03]

RIN 2120-AA64

Airworthiness Directives; The Boeing Company Airplanes

AGENCY: Federal Aviation Administration (FAA), DOT.

ACTION: Final rule.

SUMMARY: We are superseding an existing airworthiness directive (AD) for certain The Boeing Company Model 747 series airplanes. That AD currently requires repetitive inspections for cracks of the fuselage skin lap splice between body station (BS) 400 and BS 520 at stringers S-6L and S-6R, and repair if necessary. This new AD shortens the interval for the repetitive inspections, requires modification for certain airplanes, and requires certain post-modification inspections for other airplanes. This AD was prompted by reports of multiple adjacent cracks on an airplane, and a recent fleet-wide evaluation of widespread fatigue damage of skin lap joints, which indicated the need for revised procedures and reduced compliance times. We are issuing this AD to detect and correct cracking of the fuselage skin lap splice between BS 400 and BS 520 at stringers S-6L and S-6R, which could result in sudden loss of cabin pressurization and the inability of the fuselage to withstand fail-safe loads.

DATES: This AD is effective June 25, 2012.

The Director of the Federal Register approved the incorporation by reference of certain publications listed in the AD as of June 25, 2012.

ADDRESSES: For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Bill Ashforth, Aerospace Engineer, Airframe Branch, ANM-120S, FAA, Seattle Aircraft Certification Office (ACO), 1601 Lind Avenue SW., Renton, Washington 98057-3356; phone: 425-917-6432; fax: 425-917-6590; email: bill.ashforth@faa.gov.

SUPPLEMENTARY INFORMATION:

Discussion

We issued a notice of proposed rulemaking (NPRM) to amend 14 CFR part 39 to supersede AD 90-21-17, Amendment 39-6768 (55 FR 41510, October 12, 1990). That AD applies to the specified products. The NPRM was published in the Federal Register on June 29, 2011 (76 FR 38074). That NPRM proposed to continue to require repetitive inspections for cracks of the fuselage skin lap splice between body station (BS) 400 and BS 520 at stringers S-6L and S-6R, and repair if necessary; and added modification for certain airplanes and certain post-modification inspections for other airplanes.

Comments

We gave the public the opportunity to participate in developing this AD. The following presents the comments received on the proposal (76 FR 38074, June 29, 2011) and the FAA's response to each comment.

Request To Remove Conflicting Requirement

Boeing stated that certain compliance times conflict in the proposed AD (76 FR 38074, June 29, 2011). To resolve the conflict, Boeing requested that we remove paragraph (k) from the proposed AD. (Paragraph (k) was retained from AD 90-21-17, Amendment 39-6768 (55 FR 41510, October 12, 1990).) The initial compliance time for the inspections specified in paragraphs (k), (l), and (m) of the proposed AD is 10,000 flight cycles after certain modifications have been done. Boeing noted that the repetitive interval is 5,000 flight cycles for paragraph (k) of the proposed AD—but Boeing Service Bulletin 747-53A2303, Revision 2, dated October 1, 2009, specifies 500 flight cycles for paragraphs (l) and (m) of the proposed AD. Boeing stated that the preventive modifications include the protruding head fastener modification and the external reinforcement doubler installation (which does not cut the lap).

We partially agree with the request. We agree that, as written, the compliance times specified in paragraphs (l) and (m) of the proposed AD (76 FR 38074, June 29, 2011) would have conflicted with the compliance time specified in paragraph (k) in the proposed AD, as described by the commenter. But, for airplanes nearing the 5,000-flight-cycle repetitive interval specified in paragraph (k) of the AD on the new effective date, removing paragraph (k) from the AD would allow an unwarranted extension of time to comply, and could compromise the continued safe operation of those airplanes. We have therefore retained paragraph (k) in this AD. We have further determined that, once the applicable inspections specified in paragraph (l) or (m) of the AD have been initiated, the actions in paragraph (k) are no longer necessary. To avoid the conflict described by the commenter, we have revised paragraphs (l) and (m) of this AD to state that their accomplishment terminates the requirements of paragraph (k) of this AD.

Request To Revise Modification Requirements

Boeing requested that we revise paragraph (n) of the proposed AD (76 FR 38074, June 29, 2011) to specify separate requirements for the two groups of affected airplanes, so that the proposed AD agrees with the actions specified in Table 2 of paragraph 1.E., “Compliance,” of Boeing Service Bulletin 747-53A2303, Revision 2, dated October 1, 2009.

One group affected by paragraph (n) of the proposed AD (76 FR 38074, June 29, 2011) is airplanes on which no previous modification or repair has been installed in the affected area. For those airplanes, Boeing requested that we require a structural modification in accordance with Part 3 of Boeing Service Bulletin 747-53A2303, Revision 2, dated October 1, 2009, within the compliance time specified in paragraph A. of AD 90-06-06, Amendment 39-6490 (55 FR 8374, March 7, 1990).

(AD 90-06-06, Amendment 39-6490 (55 FR 8374, March 7, 1990), applies to certain Boeing Model 747 series airplanes and requires structural modifications in accordance with Boeing Document D6-35999, dated March 31, 1989. That document in turn refers to Boeing Alert Service Bulletin 747-53A2303, dated June 2, 1988, as another source of guidance for doing that modification.)

Boeing requested no change for the remaining airplanes identified in paragraph (n) of the proposed AD (76 FR 38074, June 29, 2011).

We partially agree. For the referenced airplanes, this same modification is one of the requirements of AD 90-06-06, Amendment 39-6490 (55 FR 8374, March 7, 1990). The compliance time for this modification is 23,000 total accumulated flight cycles, or within 4 years after the effective date (April 17, 1990), whichever occurs later. To clarify the ADs' requirements, we have removed those airplanes from paragraph (n) of the NPRM (76 FR 38074, June 29, 2011) and added a new paragraph (o) in this AD, which explains that, for those airplanes, accomplishment of the referenced modification satisfies the corresponding requirement for AD 90-06-06, but post-modification inspections are required. We have re-identified subsequent paragraphs in this AD accordingly.

Request To Refer to Service Information for Compliance Data

Boeing requested that the FAA review the compliance data in the proposed AD (76 FR 38074, June 29, 2011). Boeing noted that the proposed AD repeated all the compliance data as stated in Boeing Service Bulletin 747-53A2303, Revision 2, dated October 1, 2009. Boeing requested that we refer to the compliance table in this service bulletin as the source of all compliance data, except as noted.

Referring to paragraph 1.E., “Compliance,” of a service bulletin may be an efficient way to convey compliance time information in an AD, if the compliance times are complex or numerous. But specifying simpler compliance times within an AD—as in paragraphs (l), (m), and (n) in this AD—is also acceptable and enforceable. For requirements retained from a superseded AD—as in paragraphs (g) through (k) in this AD—we routinely restate the existing language from the AD that is being superseded, including the text describing the compliance times. We have not changed this AD regarding this issue.

Explanation of Additional Changes to This AD

The information in Note 1 of the proposed AD (76 FR 38074, June 29, 2011) has been moved to a new paragraph (g)(4) in this AD.

As explained in the proposed AD (76 FR 38074, June 29, 2011), paragraph (p) in the proposed AD (paragraph (q) in this final rule) was revised to add delegation of authority to Boeing Commercial Airplanes Organization Designation Authorization (ODA) to approve an alternative method of compliance for any repair required by this AD. We have also changed paragraph (k) of this AD to reflect this change.

Conclusion

We reviewed the relevant data, considered the comments received, and determined that air safety and the public interest require adopting the AD with the changes described previously and minor editorial changes. We have determined that these minor changes:

• Are consistent with the intent that was proposed in the NPRM (76 FR 38074, June 29, 2011) for correcting the unsafe condition; and

• Do not add any additional burden upon the public than was already proposed in the NPRM (76 FR 38074, June 29, 2011).

We also determined that these changes will not increase the economic burden on any operator or increase the scope of the AD.

Costs of Compliance

There are about 165 airplanes of the affected design in the worldwide fleet; of these, 64 are U.S.-registered airplanes. The following table provides the estimated costs for U.S. operators to comply with this AD.

Estimated Costs
Action | Work hours | Average labor rate per hour | Parts | Cost per airplane | Fleet cost
Inspection (required by AD 90-21-17, Amendment 39-6768 (55 FR 41510, October 12, 1990) | 8 | $85 | $0 | $680 per inspection cycle | $43,520 per inspection cycle.
Modification (new action) | Up to 370 | 85 | Between $954 and $2,064 | Up to $33,514 | Up to $2,144,896.

We have received no definitive data that would enable us to provide cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 90-21-17, Amendment 39-6768 (55 FR 41510, October 12, 1990), and adding the following new AD:

2012-10-03 The Boeing Company: Amendment 39-17052; Docket No. FAA-2011-0645; Directorate Identifier 2010-NM-009-AD.

(a) Effective Date

This airworthiness directive (AD) is effective June 25, 2012.

(b) Affected ADs

This AD supersedes AD 90-21-17, Amendment 39-6768 (55 FR 41510, October 12, 1990).

(c) Applicability

This AD applies to The Boeing Company Model 747-100, 747-100B, 747-200B, 747-200C, 747-200F, 747-300, 747SR, and 747SP series airplanes, certificated in any category, as identified in Boeing Service Bulletin 747-53A2303, Revision 2, dated October 1, 2009.

(d) Subject

Joint Aircraft System Component (JASC)/Air Transport Association (ATA) of America Code 53, Fuselage.

(e) Unsafe Condition

This AD was prompted by from reports of multiple adjacent cracks on an airplane, and a recent fleet-wide evaluation of widespread fatigue damage of skin lap joints, which indicated the need for revised procedures and reduced compliance times. The Federal Aviation Administration is issuing this AD to detect and correct cracking of the fuselage skin lap splice between body station (BS) 400 and BS 520, at stringers S-6L and S-6R. Such cracking could result in sudden loss of cabin pressurization and the inability of the fuselage to withstand fail-safe loads.

(f) Compliance

You are responsible for having the actions required by this AD performed within the compliance times specified, unless the actions have already been done.

(g) Retained Inspections

This paragraph restates the requirements of paragraph A. of AD 90-21-17, Amendment 39-6768 (55 FR 41510, October 12, 1990), with revised service information, reduced inspection interval, and added subparagraph. Conduct a close visual or detailed inspection, and a high frequency eddy current (HFEC) inspection, of the fuselage skin lap splice between BS 400 and BS 520, at stringers S-6L and S-6R, for cracking, in accordance with Boeing Alert Service Bulletin 747-53A2303, dated June 2, 1988, or Revision 1, dated March 29, 1990; or Boeing Service Bulletin 747-53A2303, Revision 2, dated October 1, 2009; at the times specified in paragraph (g)(1), (g)(2), or (g)(3) of this AD. After the effective date of this AD, only Boeing Service Bulletin 747-53A2303, Revision 2, dated October 1, 2009, may be used. Adequate lighting must be used for this inspection. The eddy current inspections may be conducted without removal of the paint, provided the paint does not interfere with the inspections. Paint must be removed, using an approved chemical stripper, in any situation where the inspector determines that the paint is interfering with the proper functioning of the inspection instrument.

(1) Within the next 100 landings after March 31, 1989 (the effective date of AD 89-05-03, Amendment 39-6146 (54 FR 7397, February 21, 1989), which was superseded by AD 90-21-17, Amendment 39-6768 (55 FR 41510, October 12, 1990)), for airplanes that have accumulated 16,000 or more landings as of March 31, 1989, unless previously accomplished within the last 4,900 landings.

(2) Within the next 1,000 landings after March 31, 1989, or prior to the accumulation of 16,000 landings, whichever occurs first, for airplanes that have accumulated between 12,000 and 16,000 landings, as of March 31, 1989 (the effective date of AD 89-05-03, Amendment 39-6146 (54 FR 7397, February 21, 1989), which was superseded by AD 90-21-17, Amendment 39-6768 (55 FR 41510, October 12, 1990)), unless previously accomplished within the last 4,000 landings.

(3) Prior to the accumulation of 13,000 landings for airplanes that have accumulated 12,000 or fewer landings as of March 31, 1989 (the effective date of AD 89-05-03, Amendment 39-6146 (54 FR 7397, February 21, 1989), which was superseded by AD 90-21-17, Amendment 39-6768 (55 FR 41510, October 12, 1990)), unless previously accomplished within the last 5,000 landings.

(4) For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(h) Retained Inspection Compliance Time for SUD-Modified Airplanes

This paragraph restates the requirements of paragraph B. of AD 90-21-17, Amendment 39-6768 (55 FR 41510, October 12, 1990), with revised service information. On airplanes which have been modified to the stretched-upper-deck configuration, as identified in Boeing Alert Service Bulletin 747-53A2303, dated June 2, 1988, or Revision 1, dated March 29, 1990; or Boeing Service Bulletin 747-53A2303, Revision 2, dated October 1, 2009; the accumulated landing threshold for compliance with paragraph (g) of this AD is measured from the time of the stretched-upper-deck modification.

(i) Retained Repetitive Inspections

This paragraph restates the requirements of paragraph C. of AD 90-21-17, Amendment 39-6768 (55 FR 41510, October 12, 1990), with revised service information. If no cracking is detected during the inspections required by paragraph (g) of this AD, repeat the inspections required by paragraph (g) of this AD one time at the earlier of the times specified in paragraphs (i)(1) and (i)(2) of this AD. Thereafter repeat the inspections at intervals not to exceed 3,000 landings.

(1) Within 5,000 landings after the last inspection.

(2) Within 3,000 landings after the last inspection, or within 1,000 landings after the effective date of this AD, whichever occurs later.

(j) Retained Repair

This paragraph restates the requirements of paragraph D. of AD 90-21-17, Amendment 39-6768 (55 FR 41510, October 12, 1990), with revised service information. If cracks are detected during the inspections required by paragraph (g) of this AD, accomplish the repair or preventive modification of the affected lap splice, in accordance with Boeing Alert Service Bulletin 747-53A2303, dated June 2, 1988, or Revision 1, dated March 29, 1990; or Boeing Service Bulletin 747-53A2303, Revision 2, dated October 1, 2009; prior to further pressurized flight. After the effective date of this AD, only Boeing Service Bulletin747-53A2303, Revision 2, dated October 1, 2009, may be used. If cracks are repaired in local areas without accomplishing preventive modification of the entire affected lap area, continue inspections of the unmodified and unrepaired areas of the affected lap splice in accordance with paragraph (i) of this AD.

(k) Retained Inspection Compliance Time for Airplanes With Preventive Modification

This paragraph restates the requirements of paragraph E. of AD 90-21-17, Amendment 39-6768 (55 FR 41510, October 12, 1990), with revised service information. For airplanes incorporating the preventive modification, as described in Boeing Alert Service Bulletin 747-53A2303, dated June 2, 1988, or Revision 1, dated March 29, 1990; or Boeing Service Bulletin 747-53A2303, Revision 2, dated October 1, 2009; accomplish the inspections required by paragraph (g) of this AD prior to the accumulation of 10,000 landings after the modification and thereafter at intervals not to exceed 5,000 landings. If cracks are found, repair using a method approved in accordance with the procedures specified in paragraph (q) of this AD, prior to further pressurized flight.

(l) New Requirement of This AD: Post-Modification Inspections

For airplanes on which a protruding head fastener modification has been done in accordance with Boeing Alert Service Bulletin 747-53A2303, dated June 2, 1988, or Revision 1, dated March 29, 1990: Within 10,000 flight cycles after modification, or within 500 flight cycles after the effective date of this AD, whichever occurs later, do an external HFEC inspection for cracking in the skin around the fasteners in the upper row of the lap joint, in accordance with Part 5 of the Accomplishment Instructions of Boeing Service Bulletin 747-53A2303, Revision 2, dated October 1, 2009. If any crack is found, before further flight repair in accordance with Boeing Service Bulletin 747-53A2303, Revision 2, dated October 1, 2009 (except as required by paragraph (p) of this AD), or do the modification specified in paragraph (n) of this AD. Repeat the inspection in affected uncracked areas at intervals not to exceed 500 flight cycles, until the modification specified in paragraph (n) of this AD is done. Accomplishment of the initial inspection and all applicable corrective actions specified in this paragraph terminates the requirements of paragraph (k) of this AD.

(m) New Requirement of This AD: Internal HFEC Inspection

For airplanes on which an external doubler repair has been installed as a modification that was done using a method other than that specified in Boeing 747 structural repair manual (SRM) 53-30-03, Figure 19, 25, 28 or 34: Within 10,000 flight cycles after modification, or within 500 flight cycles after the effective date of this AD, whichever occurs later, do an internal HFEC inspection for cracking in the skin around the fasteners in the upper row of the lap joint, in accordance with Part 5 of the Accomplishment Instructions of Boeing Service Bulletin 747-53A2303, Revision 2, dated October 1, 2009. If any crack is found, before further flight repair in accordance with Boeing Service Bulletin 747-53A2303, Revision 2, dated October 1, 2009 (except as required by paragraph (p) of this AD), or do the modification specified in paragraph (n) of this AD. Repeat the inspection in affected uncracked areas at intervals not to exceed 500 flight cycles, until the modification specified in paragraph (n) of this AD is done. Accomplishment of the initial inspection and all applicable corrective actions specified in this paragraph terminates the requirements of paragraph (k) of this AD.

(n) New Requirement of This AD: External Doubler Modification

For airplanes on which a protruding head fastener modification or a Boeing 747 SRM 53-30-03 repair or modification has been installed that was not done using Boeing 747 SRM 53-30-03, Figure 19, 25, 28, or 34, for the full length of the lap splice: Within 14,000 flight cycles after the first repair or modification was done, or within 3,000 flight cycles after the effective date of this AD, whichever occurs later, modify the skin and do all post-modification inspections and repairs, in accordance with Part 3 of the Accomplishment Instructions of Boeing Service Bulletin 747-53A2303, Revision 2, dated October 1, 2009, except as required by paragraph (o) of this AD. Do the post-modification inspection within 10,000 flight cycles after installation of the modification. Repeat the inspection thereafter at intervals not to exceed 3,000 flight cycles. All applicable repairs must be done before further flight.

(o) Structural Modification

The provisions of paragraphs (o)(1) and (o)(2) of this AD apply to airplanes on which no previous modification or repair has been installed in the affected area.

(1) Accomplishment of the structural modification specified in Part 3 of the Accomplishment Instructions of Boeing Service Bulletin 747-53A2303, Revision 2, dated October 1, 2009, satisfies the requirements of AD 90-06-06, Amendment 39-6490 (55 FR 8374, March 7, 1990), for only the corresponding modification specified in Boeing Alert Service Bulletin 747-53A2303, dated June 2, 1988, and Revision 1, dated March 29, 1990; and Boeing Service Bulletin 747-53A2303, Revision 2, dated October 1, 2009.

(2) After accomplishment of the modification specified in paragraph (o)(1) of this AD, the applicable requirements and compliance times of paragraphs (l) and (m) of this AD apply.

(p) Exception to Service Bulletin Specification

Where Boeing Service Bulletin 747-53A2303, Revision 2, dated October 1, 2009, specifies to contact Boeing for appropriate action: Before further flight, repair using a method approved in accordance with the procedures specified in paragraph (q) of this AD.

(q) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) or other person who has been authorized by the Manager, Seattle ACO, to make those findings. For a repair method to be approved, the repair must meet the certification basis of the airplane, and the approval must specifically refer to this AD.

(4) AMOCs approved previously in accordance with AD 90-21-17, Amendment 39-6768 (55 FR 41510, October 12, 1990), are approved as AMOCs for the corresponding provisions of paragraphs (g) and (i) of this AD. AMOCs approved previously in accordance with AD 90-21-17, Amendment 39-6768 (55 FR 41510, October 12, 1990), are approved as AMOCs for the corresponding provisions of paragraphs (j) and (n) of this AD only if the repair or preventive modification of the affected lap splice was done in accordance with Boeing Service Bulletin 747-53A2303, Revision 2, dated October 1, 2009, including Boeing Designated Engineering Representative (DER) or Airworthiness Representative (AR) approvals of deviations to Boeing Service Bulletin 747-53A2303, Revision 2, dated October 1, 2009.

(r) Related Information

For more information about this AD, contact Bill Ashforth, Aerospace Engineer, Airframe Branch, ANM-120S, FAA, Seattle Aircraft Certification Office (ACO), 1601 Lind Avenue SW., Renton, Washington 98057-3356; telephone 425-917-6432; fax 425-917-6590; email: bill.ashforth@faa.gov.

(s) Material Incorporated by Reference

(1) You must use the following service information to do the actions required by this AD, unless the AD specifies otherwise. The Director of the Federal Register approved the incorporation by reference (IBR) of the following service information under 5 U.S.C. 552(a) and 1 CFR part 51:

(i) Boeing Alert Service Bulletin 747-53A2303, dated June 2, 1988.

(ii) Boeing Alert Service Bulletin 747-53A2303, Revision 1, dated March 29, 1990.

(iii) Boeing Service Bulletin 747-53A2303, Revision 2, dated October 1, 2009.

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on May 8, 2012.
Michael Kaszycki,
Acting Manager, Transport Airplane Directorate, Aircraft Certification Service.

[FR Doc. 2012-11869 Filed 5-18-12; 8:45 am]

BILLING CODE 4910-13-P